DEPARTMENT OF ENERGY

Federal Energy Regulatory Commission

[Docket No. RP96-129-009]

Trunkline Gas Company; Notice of Compliance Filing

February 16, 2000.

Take notice that on February 11, 2000, Trunkline Gas Company (Trunkline) tendered for filing as part of its FERC Gas Tariff, First Revised Volume No. 1, the pro forma tariff sheets listed on Appendices A and B attached to the filing and proposed to be effective on various dates beginning August 1, 1996.

Trunkline states that the purpose of this filing is to comply with Ordering Paragraph (B) of the Commission's Opinion No. 441 and Order on Initial Decision, 90 FERC ¶61,017 (January 12, 2000) (Order) in the above-referenced proceeding. Trunkline further states that the revised cost of service and pro forma tariff sheets reflect the findings and conclusions of the Commission's Order.

Trunkline states that copies of this filing are being served on all affected customers and applicable state regulatory agencies.

Any person desiring to protest this filing should file a protest with the Federal Energy Regulatory Commission, 888 First Street, NE, Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-4187 Filed 2-22-00; 8:45 am]

BILLING CODE 6717-01-M